DEPARTMENT OF ENERGY

Nuclear Energy Research Advisory Committee

AGENCY: Department of Energy.

ACTION: Notice of open meeting.

SUMMARY: This notice announces a meeting of the Nuclear Energy Research Advisory Committee. The Federal Advisory Committee Act (Pub. L. No. 92-463, 86 Stat. 770), requires that public notice of the meetings be announced in the Federal Register.

DATES: Monday September 30, 2002, 10 am to 5 pm and Tuesday, October 1, 2002, 9 am 12:30 pm.

ADDRESSES: Crystal City Sheraton, 1800 Jefferson Davis Highway, Arlington, VA 22202.

FOR FURTHER INFORMATION CONTACT: Dr. Norton Haberman, Designated Federal Officer, Nuclear Energy Research Advisory Committee, U.S. Department of Energy, NE-1, 1000 Independence Avenue, SW., Washington DC 20585, Telephone Number 301.903.1167, E-mail: Norton.Haberman@hq.doe.gov.

SUPPLEMENTARY INFORMATION: Purpose of the Meeting: To provide advice to the Director of the Office of Nuclear Energy, Science and Technology (NE) of the Department of Energy on the many complex planning, scientific and technical issues that arise in the development and implementation of the Nuclear Energy research program.

Tentative Agenda

Monday September 30, 2002

Welcome Remarks

Status of Nuclear Energy's FY 2003 Budget Request

Report of Advanced Nuclear Fuel Cycle Initiative

Report of Subcommittee on Generation IV Technology Planning

Tuesday, October 1, 2002

Business Case for New Nuclear Power Plants

Report of Joint DOE/EPA Task Force on Nuclear Energy and Clean Air

Generation IV International Forum

Public Comment Period

Public Participation: The day and a half meeting is open to the public on a first-come, first-serve basis because of limited seating. Written statements may be filed with the committee before or after the meeting. Members of the public who wish to make oral statements pertaining to agenda items should contact Norton Haberman at the address or telephone listed above. Requests to make oral statements must be made and received five days prior to the meeting; reasonable provision will be made to include the statement in the agenda. The Chair of the committee is empowered to conduct the meeting in a fashion that will facilitate the orderly conduct of business.

Minutes: The minutes of this meeting will be available for public review and copying at the Freedom of Information Reading Room. 1E-190, Forrestal Building, 1000 Independence Avenue, SW., Washington, DC between 9 a.m. and 4 p.m., Monday through Friday, except holidays.

Issued in Washington, DC, on September 10, 2002.
Rachel M. Samuel,
Deputy Advisory Committee Management Officer.

[FR Doc. 02-23466 Filed 9-13-02; 8:45 am]

BILLING CODE 6450-01-P